DEPARTMENT OF AGRICULTURE

Grain Inspection, Packers and Stockyards Administration

[05-CA-S]

Designation for the California Area

AGENCY: Grain Inspection, Packers and Stockyards Administration, USDA.

ACTION: Notice.

SUMMARY: Grain Inspection, Packers and Stockyards Administration (GIPSA) announces designation of California Agri Inspection Co., Ltd. (California Agri); and Farwell Commodity and Grain Services, Inc. (Farwell Southwest), to provide official services under the United States Grain Standards Act, as amended (Act).

DATES: Effective Dates: May 16, 2005, for Farwell Southwest, and June 1, 2005, for California Agri.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the January 18, 2005, Federal Register (70 FR 2844), GIPSA asked persons interested in providing official services in the State of California to submit an application for designation. Applications were due by February 17, 2005.

There were four applicants for the State of California: Farwell Commodity and Grain Services, Inc. (Farwell Southwest) an official agency designated effective April 1, 2005; a company proposing to do business as California Agri Inspection Co., Ltd. (California Agri) with the parent company of Overseas Merchandise Inspection Co., Ltd.; California Grain Inspection Services (California Grain), a partnership owned by Robert Chavez and Tim A. Walters; and Imperial Grain Inspection Service (Imperial) a partnership owned by Tim A. Walters and Debra J. Walters. Each applied for designation to provide official services in all or part of the entire area named in the January 18, 2005, Federal Register.

GIPSA asked for comments on Farwell Southwest, California Agri, California Grain, and Imperial, in the March 10, 2005, Federal Register (70 FR 11933) and specified the geographic areas for which they had applied for designation. Imperial subsequently withdrew their application for designation.

Comments were due by April 11, 2005. GIPSA received six comments supporting the designation of California Grain, three comments supporting the designation of California Agri, and two comments supporting the designation of Imperial by the closing date.

GIPSA evaluated all available information regarding the designation criteria in section 7(f)(l)(A) of the Act and, according to section 7(f)(l)(B), determined that Farwell Southwest and California Agri are better able to provide official services in the portions of the geographic area specified below. The geographic area specified in this document includes additional area for which Farwell Southwest and California Agri applied, as both applicants indicated they would be willing to accept more or less area in order to provide needed services to all requestors, and it was GIPSA's desire to designate the entire State.

Effective May 16, 2005, and terminating March 31, 2008, concurrent with their present designation, Farwell Southwest is designated, pursuant to section (7)(2) of the Act, for the following geographic area:

Bounded on the north by the northern San Luis Obispo, Kings, Fresno, Merced, Madera, and Inyo County lines east to the California State line;

Bounded on the east by the eastern California State line south to the southern California State line;

Bounded on the south by the southern California State line west to the western California State line;

Bounded on the west by the western California State line north to the northern San Luis Obispo County line, excluding those export port locations served by GIPSA.

Interested persons may obtain official services by calling Farwell Southwest's headquarters in Casa Grande, Arizona, at telephone number 520-421-1027.

Effective June 1, 2005, and terminating December 31, 2006, California Agri is designated, pursuant to section (7)(2) of the Act, in the following geographic area:

Bounded on the north by the California State line east to the eastern California State line;

Bounded on the east by the eastern California State line south to the southern Mono County line;

Bounded on the south by the southern Mono, Tuolumne, Mariposa, Stanislaus, Santa Clara, San Benito, and Monterey County lines west to the western California State line;

Bounded on the west by the western California State line north to the northern California State line, excluding those export port locations served by GIPSA.

Interested persons may obtain official services by calling California Agri's headquarters in West Sacramento, California, at telephone number 916-375-5809.

Authority: Pub. L. 94-582, 90 Stat. 2867, as amended (7 U.S.C. 71 et seq.).

David Orr,
Acting Administrator, Grain Inspection, Packers and Stockyards Administration.

[FR Doc. 05-8814 Filed 5-2-05; 8:45 am]

BILLING CODE 3410-EN-P